DEPARTMENT OF COMMERCE

International Trade Administration

[A-570-855]

Certain Non-frozen Apple Juice Concentrate from the People's Republic of China: Notice of Extension of Time Limit for the Preliminary Results of the First Administrative Review

AGENCY: Import Administration, International Trade Administration, Department of Commerce.

ACTION: Notice of Extension of Time Limit.

SUMMARY: The Department of Commerce is extending the time limit for the preliminary results of the first administrative review of the antidumping duty order on certain non-frozen apple juice concentrate from the People's Republic of China. The period of review is November 23, 1999 through May 31, 2001. This extension is made pursuant to section 751(a)(3)(A) of the Tariff Act of 1930, as amended by the Uruguay Rounds Agreement Act.

EFFECTIVE DATE: May 1, 2002.

FOR FURTHER INFORMATION CONTACT: Jarrod Goldfeder or Andrew McAllister, Office of AD/CVD Enforcement I, Import Administration, International Trade Administration, U.S. Department of Commerce, 14th Street and Constitution Avenue, NW, Washington, DC 20230; telephone numbers: (202) 482-0189 or (202) 482-1174, respectively.

SUPPLEMENTARY INFORMATION:

Applicable Statutes and Regulations

Unless otherwise indicated, all citations to the statute are references to provisions effective January 1, 1995, the effective date of the amendments made to the Tariff Act of 1930, (the Act) by the Uruguay Round Agreements Act, and all citations to the Department of Commerce's (the Department's) regulations are to 19 CFR Part 351 (2001).

Statutory Time Limits

Section 751(a)(3)(A) of the Act requires the Department to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

Background

On July 23, 2001, the Department published the notice of initiation of the antidumping administrative review on certain non-frozen apple juice concentrate from the People's Republic of China (PRC) covering the period from November 23, 1999 through May 31, 2001. (See Initiation of Antidumping and Countervailing Duty Administrative Reviews and Requests for Revocation in Part, 66 FR 38252 (July 23, 2001)). On February 1, 2002, the Department postponed the preliminary results of this review by 60 days. (See Certain Non-frozen Apple Juice Concentrate from the People's Republic of China: Notice of Extension of Time Limit for the Preliminary Results of the First Administrative Review, 67 FR 5788 (February 7, 2002)). Accordingly, the preliminary results are currently due not later than May 1, 2002.

Extension of Time Limits for Preliminary Results

Due to the number of companies and the complexity of the issues, including the collection of surrogate value information, it is not practicable to issue the preliminary results within the originally anticipated time limit (i.e., May 1, 2002). (See Memorandum from Team to Richard W. Moreland, “Extension of Time Limit for Preliminary Results,” dated, April 26, 2002. Therefore, in accordance with section 751(a)(3)(A) of the Act, the Department is extending the time limit for the completion of preliminary results in this case by an additional 60 days, (i.e., until not later than July 1, 2002).

This notice is published pursuant to sections 751(a)(1) and 777(i)(1) of the Act.

April 25, 2002
Richard W. Moreland,
Deputy Assistant Secretary for AD/CVD Enforcement.

[FR Doc. 02-10766 Filed 4-30-02; 8:45 am]

BILLING CODE 3510-DS-S